DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Drug Abuse Warning Network (OMB No. 0930-0078)—Revision

The Drug Abuse Warning Network (DAWN) is an ongoing data system that collects information on drug-related medical emergencies as reported from about 350 hospitals nationwide, and drug-related deaths as reported from 11 states with centralized Medical Examiner offices and 125 medical examiners/coroner jurisdictions (ME/C) in 32 metropolitan areas. DAWN provides national and metropolitan estimates of substances involved with drug-related emergency department (ED) visits; disseminates information about substances involved in deaths investigated by participating medical examiners and coroners (ME/Cs); tracks drug abuse patterns, trends, and the emergence of new substances; monitors post-market adverse drug incidents; assesses health hazards associated with the use of illicit, prescription, and over-the-counter drugs; and generates information for national and local drug abuse policy and program planning. DAWN data are used by Federal, State, and local agencies, as well as universities, pharmaceutical companies, and the media.

From 2009 to 2011, DAWN will continue to recruit hospitals in the 13 oversampled metropolitan areas and in the remainder of the U.S. in order to improve the precision of estimates, adding approximately 43 sampled hospitals that are currently not participating. In 2009 and 2010, DAWN plans to recruit 2 States with centralized ME/C systems. To achieve full participation by ME/Cs in the metropolitan areas currently covered, DAWN plans to recruit approximately 20 more ME/Cs from the 13 metropolitan areas, and approximately 20 ME/Cs from metropolitan areas in the rest of the country. DAWN data are submitted electronically, using eHERS (electronic Hospital Emergency Reporting System) and eMERS (electronic Medical Examiner Reporting System). In most of the facilities participating in DAWN (83 percent of the EDs and 58 percent of the ME/C offices), data are collected by government contractor staff; these facilities are not included in the burden statement because the facility staff are not involved in data collection. The annual burden estimates for those EDs and ME/C offices that collect the data using their own staff are shown below. There will be minor editorial changes to both the ED and ME/C reporting forms to simplify reporting. On the ME/C reporting form, a data element for case narrative will be added. These changes are not anticipated to impact the overall burden.

Annualized Reporting Burden for DAWN: 2009-2011
Activity | Number of respondents ¹ | Estimated number of responses per respondent | Total responses | Estimated time per response (in minutes) | Total hour burden
Emergency Departments
ED Chart review | 61 | 24,551 | 1,497,604 | 3 | 74,880
Case data upload | 61 | 556 | 33,906 | 3 | 1,695
ED activity report | 61 | 240 | 14,640 | 2 | 488
Subtotal | 61 |  |  |  | 77,063
State Medical Examiners
Death investigation records review | 6 | 3,099 | 18,593 | 4 | 1,240
Case data upload | 6 | 338 | 2,027 | 3 | 101
ME/C activity report | 6 | 240 | 1,440 | 2 | 48
Subtotal | 6 |  |  |  | 1,389
Individual Medical Examiner/Coroners
Death investigation records review | 84 | 1,097 | 92,181 | 4 | 6,145
Case data upload | 84 | 89 | 7,471 | 3 | 374
ME/C activity report | 84 | 240 | 20,160 | 2 | 672
Subtotal | 84 |  |  |  | 7,191
Total | 151 |  |  |  | 85,643
¹ Data collection for the 61 EDs and 101 ME/Cs where data are collected by facility staff or other staff (does not include data collected by DAWN operations contractor staff).
² In participating States, a single office reports for all jurisdictions; in other areas, a single medical examiner/coroner office may report for multiple jurisdictions. For this reason, the number of respondents is smaller than the number of ME/C jurisdictions participating in DAWN.

Send comments to Summer King, SAMHSA Reports Clearance Officer, Room 7-1044, One Choke Cherry Road, Rockville, MD 20857 and e-mail her a copy at summer.king@samhsa.hhs.gov. Written comments should be received within 60 days of this notice.

Dated: April 28, 2008.
Elaine Parry,
Acting Director, Office of Program Services.

[FR Doc. E8-9791 Filed 5-2-08; 8:45 am]

BILLING CODE 4162-20-P